FEDERAL MARITIME COMMISSION

[Docket No. 19-09]

VerTerra Ltd., Complainant v. D.B. Group America Ltd. and D.B. Group India Ltd., Respondents.; Notice of Filing of Complaint and Assignment

Served: December 4, 2019.

Notice is given that a complaint has been filed with the Federal Maritime Commission (Commission) by VerTerra Ltd., hereinafter “Complainant”, against D.B. Group America Ltd. and D.B. Group India Ltd., hereinafter “Respondents”. Complainant states that it “. . . is in the business of creating and selling environmentally sustainable and disposable dinnerware constructed from fallen palm leaves” and is principally located in the New York City area. Complainant states that Respondent D.B. Group America Ltd. is a New York limited company and an NVOCC licensed by the Federal Maritime Commission. Complainant states that Respondent D.B. Group India Ltd. is an NVOCC licensed by the Federal Maritime Commission.

Complainant states that Respondent D.B. Group America Ltd. “. . . handled approximately 293 discreet shipping jobs for [Complainant].” Complainant alleges that Respondents provided service that was not in accordance with any published tariff or reflected in any NSA or NRA between the parties. Complainant also alleges that D.B. Group America Ltd. “. . . had been charging substantially more than it had represented would be the cost of these shipments” in 2018. Complainant alleges that “. . .bills of lading reflect that [Respondent D.B. Group America Ltd.], through [Respondent D.B. Group India Ltd.], was applying `surcharges' and General Rate Increases to the fees it was charging [Complainant], when these surcharges were not applicable and not referenced in its tariff.”

Complainant alleges that Respondents violated 46 U.S.C. 41104, 41104(a), 41104(a)(2), 41104(a)(3), 41104(a)(4), 41104(a)(5), 40501 and 40502. Complainant alleges it “incurred damages in excess of $100,000” and seeks reparations and other relief.

The full text of the complaint can be found in the Commission's Electronic Reading Room at https://www2.fmc.gov/readingroom/proceeding/19-09/.

This proceeding has been assigned to Office of Administrative Law Judges. The initial decision of the presiding office in this proceeding shall be issued by December 4, 2020, and the final decision of the Commission shall be issued by May 18, 2021.

Rachel Dickon,
Secretary.

[FR Doc. 2019-26653 Filed 12-10-19; 8:45 am]

BILLING CODE P